DEPARTMENT OF TRANSPORTATION

Federal Aviation Administration

14 CFR Parts 1, 21, 22, 36, 43, 45, 61, 65, 91, and 119

[Docket No.: FAA-2023-1377; Notice No. 23-10]

RIN 2120-AL50

Modernization of Special Airworthiness Certification

AGENCY: Federal Aviation Administration (FAA), Department of Transportation (DOT).

ACTION: Notice of proposed rulemaking (NPRM); reopening of comment period.

SUMMARY: This action extends the comment period for the NPRM published on July 24, 2024, titled “Modernization of Special Airworthiness Certification.” The FAA is extending the comment period to allow commenters to review and comment on a Memorandum to the Docket that the FAA posted to the docket (FAA-2023-1377-1343) on February 1, 2024, regarding an ex parte communication between the FAA and representatives of ASTM International regarding the NPRM.

DATES: The comment period for the NPRM published on July 24, 2023, at 88 FR 47650 and extended on October 4, 2023, at 88 FR 68507, and closed on January 22, 2024, is reopened until March 11, 2024.

ADDRESSES: Send comments identified by docket number FAA-2023-1377 using any of the following methods:

• Federal eRulemaking Portal: Go to www.regulations.gov and follow the online instructions for sending your comments electronically.

• Mail: Send comments to Docket Operations, M-30; U.S. Department of Transportation (DOT), 1200 New Jersey Avenue SE, Room W12-140, West Building Ground Floor, Washington, DC 20590-0001.

• Hand Delivery or Courier: Take comments to Docket Operations in Room W12-140 of the West Building Ground Floor at 1200 New Jersey Avenue SE, Washington, DC, between 9 a.m. and 5 p.m., Monday through Friday, except Federal holidays.

• Fax: Fax comments to Docket Operations at (202) 493-2251.

Privacy: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

Docket: Background documents or comments received may be read at www.regulations.gov at any time. Follow the online instructions for accessing the docket or go to the Docket Operations in Room W12-140 of the West Building Ground Floor at 1200 New Jersey Avenue SE, Washington, DC, between 9 a.m. and 5 p.m., Monday through Friday, except Federal holidays.

FOR FURTHER INFORMATION CONTACT: For technical questions concerning this action, contact James Newberger, Aircraft Certification Service (AIR-632), Federal Aviation Administration, 800 Independence Ave. SW, Washington, DC 20591, telephone (202) 267-1636; email james.e.newberger@faa.gov.

SUPPLEMENTARY INFORMATION:

A. Comments Invited

The FAA invites interested persons to participate in this rulemaking by submitting written comments, data, or views. To ensure the docket does not contain duplicate comments, commenters should submit only one time if comments are filed electronically or commenters should send only one copy of written comments if comments are filed in writing.

The FAA will file in the docket all comments it receives, as well as a report summarizing each substantive public contact with FAA personnel concerning this proposed rulemaking. Before acting on this proposal, the FAA will consider all comments it receives on or before the closing date for comments. The FAA will consider comments filed after the comment period has closed if it is possible to do so without incurring expense or delay. The FAA may change this proposal in light of the comments it receives.

B. Confidential Business Information

Confidential Business Information (CBI) is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to the person listed under the FOR FURTHER INFORMATION CONTACT heading at the beginning of the preamble. Any commentary that the FAA receives which is not specifically designated as CBI will be placed in the public docket for this rulemaking.

C. Availability of Rulemaking Documents

An electronic copy of rulemaking documents may be obtained from the internet by—

1. Searching the Federal eRulemaking Portal at www.regulations.gov;

2. Visiting the FAA's Regulations and Policies web page at www.faa.gov/regulations_policies/; or

3. Accessing the Government Printing Office's web page at www.GovInfo.com.

Copies may also be obtained by sending a request to the Federal Aviation Administration, Office of Rulemaking, ARM-1, 800 Independence Avenue SW, Washington, DC 20591, or by calling (202) 267-9680. Commenters must identify the docket or notice number of this rulemaking.

All documents the FAA considered in developing this proposed rule, including economic analyses and technical reports, may be accessed from the internet through the Federal eRulemaking Portal referenced in item (1) above.

Background

On July 24, 2023, the FAA published an NPRM titled “Modernization of Special Airworthiness Certification” in the Federal Register (88 FR 47650; Notice No. 23-10). Commenters were instructed to provide comments on or before October 23, 2023 (i.e., 90 days from the date of publication of the NPRM). However, based on numerous requests to extend the comment period, the FAA extended the comment period on October 4, 2023 (88 FR 68507) to January 22, 2024 (i.e., an additional 90 days for a total of 180 days from the date of publication of the NPRM).

Throughout the comment period, the rulemaking team assigned to this rulemaking project met to discuss the comments received. At a recent meeting of the rulemaking team, the FAA became aware of a conversation that was held between one of the members of the team and members of ASTM International (“ASTM”) regarding the contents of the NPRM during the ASTM International Fall Committee Week at a meeting of the ASTM International, Committee F37 on Light-Sport Aircraft. At the time, that team member recommended that the members of ASTM Committee F37 submit their comments to the docket. In the interest of transparency, the FAA is taking two steps. First, a Memorandum to the Docket (the “Memorandum”) summarizing the conversation between ASTM Committee F37 and the FAA has been placed on the docket as of February 1, 2024. Second, the FAA is reopening the comment period for thirty (30) days to allow the public an opportunity to review the contents of the Memorandum and an opportunity to respond if desired. Commenters should limit comments during this extension to the contents of the Memorandum.

Reopening of Comment Period

Under the above circumstances, the FAA finds that an additional thirty (30) days will provide sufficient opportunity for the public to comment on the Memorandum. Therefore, the comment period for Notice No. 23-10 is reopened until March 11, 2024.

The FAA will not extend the comment period for this rulemaking further.

Issued under authority provided by 49 U.S.C. 106(f), 44701(a), and 44703 in Washington, DC.

Brandon Roberts,
Executive Director, Office of Rulemaking, Federal Aviation Administration.

[FR Doc. 2024-02545 Filed 2-7-24; 8:45 am]

BILLING CODE 4910-13-P